DEPARTMENT OF ENERGY

Federal Energy Regulatory Commission

Combined Notice of Filings #1

Take notice that the Commission received the following electric rate filings:

Docket Numbers: ER19-1229-001.

Applicants: Midcontinent Independent System Operator Inc., GridLiance Heartland LLC.

Description: Tariff Amendment: 2019-09-05_Deficiency response to add GridLiance to Ameren-PPI JPZ Agreement to be effective 12/31/9998.

Filed Date: 9/5/19.

Accession Number: 20190905-5063.

Comments Due: 5 p.m. ET 9/26/19.

Docket Numbers: ER19-1231-001.

Applicants: Midcontinent Independent System Operator Inc., GridLiance Heartland LLC.

Description: Tariff Amendment: 2019-09-05_Deficiency response to GridLiance Schedules 7, 8, and 9 filing to be effective 12/31/9998.

Filed Date: 9/5/19.

Accession Number: 20190905-5065.

Comments Due: 5 p.m. ET 9/26/19.

Docket Numbers: ER19-2753-000.

Applicants: Cedar River Transmission, LLC.

Description: Baseline eTariff Filing: Cedar River Transmission, LLC SFA with NextEra Energy Duane Arnold, LLC to be effective 11/4/2019.

Filed Date: 9/4/19.

Accession Number: 20190904-5133.

Comments Due: 5 p.m. ET 9/25/19.

Docket Numbers: ER19-2754-000.

Applicants: Public Service Company of Colorado.

Description: § 205(d) Rate Filing: PSCo-WAPA NITS-325-0.2.0—Agrmt to be effective 9/3/2019.

Filed Date: 9/5/19.

Accession Number: 20190905-5006.

Comments Due: 5 p.m. ET 9/26/19.

Docket Numbers: ER19-2755-000.

Applicants: Rochester Gas and Electric Corporation, Power Authority of the State of New York, New York Independent System Operator, Inc.

Description: § 205(d) Rate Filing: Section 205 NYPA-RGE LGIA No. 2433 for RARP to be effective 8/12/2019.

Filed Date: 9/5/19.

Accession Number: 20190905-5042.

Comments Due: 5 p.m. ET 9/26/19.

Docket Numbers: ER19-2756-000.

Applicants: Midcontinent Independent System Operator, Inc.

Description: § 205(d) Rate Filing: 2019-09-05_SA 3083 Lake Benton-NSP 1st Rev GIA (J790) to be effective 8/22/2019.

Filed Date: 9/5/19.

Accession Number: 20190905-5076.

Comments Due: 5 p.m. ET 9/26/19.

Take notice that the Commission received the following electric securities filings:

Docket Numbers: ES19-50-000.

Applicants: Old Dominion Electric Cooperative, Inc.

Description: Application under Section 204 of the Federal Power Act for Authorization to Issue Securities, et al. of Old Dominion Electric Cooperative.

Filed Date: 9/4/19.

Accession Number: 20190904-5161.

Comments Due: 5 p.m. ET 9/25/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 5, 2019.
Nathaniel J. Davis, Sr.,
Deputy Secretary.

[FR Doc. 2019-19607 Filed 9-10-19; 8:45 am]

BILLING CODE 6717-01-P